ENVIRONMENTAL PROTECTION AGENCY

40 CFR Part 52

[EPA-R10-OAR-2014-0228; FRL-9910-96-Region 10]

Approval and Promulgation of Implementation Plans; Idaho Franklin County Portion of the Logan Nonattainment Area; Fine Particulate Matter Emissions Inventory

AGENCY: Environmental Protection Agency (EPA).

ACTION: Proposed rule.

SUMMARY: The Idaho Department of Environmental Quality (IDEQ) submitted a revision to the State Implementation Plan (SIP), dated December 14, 2012, to address Clean Air Act (CAA or the Act) requirements for the Idaho portion (hereafter referred to as “Franklin County”) of the cross border Logan, Utah-Idaho nonattainment area for the 2006 24-hour fine particulate matter (PM2.5) national ambient air quality standards. The EPA is proposing to approve the baseline emissions inventory contained in IDEQ's submittal as meeting the requirement to submit a comprehensive, accurate, and current inventory of direct PM2.5 and PM2.5 precursor emissions in Franklin County.

DATES: Written comments must be received on or before June 13, 2014.

ADDRESSES: Submit your comments, identified by Docket ID No. EPA-R10-OAR-2014-0228, by any of the following methods:

• www.regulations.gov: Follow the on-line instructions for submitting comments.

• Email: R10-Public_Comments@epa.gov.

• Mail: Jeff Hunt, EPA Region 10, Office of Air, Waste and Toxics (AWT-107), 1200 Sixth Avenue, Suite 900, Seattle, WA 98101.

• Hand Delivery/Courier: EPA Region 10, 1200 Sixth Avenue, Suite 900, Seattle, WA 98101. Attention: Jeff Hunt, Office of Air, Waste and Toxics, AWT-107. Such deliveries are only accepted during normal hours of operation, and special arrangements should be made for deliveries of boxed information.

Instructions: Direct your comments to Docket ID No. EPA-R10-OAR-2014-0228. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information, the disclosure of which is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Jeff Hunt at (206) 553-0256, hunt.jeff@epa.gov, or the above EPA, Region 10 address.

SUPPLEMENTARY INFORMATION: Throughout this document whenever “we,” “us,” or “our” is used, we mean the EPA.

Table of Contents

I. Background

A. PM2.5 National Ambient Air Quality Standards

B. Designation of PM2.5 Nonattainment Areas

C. Submittal Requirements for PM2.5 Nonattainment Areas

II. Analysis of the State's Submittal

III. Proposed Action

IV. Statutory and Executive Order Reviews

I. Background

A. PM2.5 National Ambient Air Quality Standards

Under section 109 of the CAA, the EPA establishes national ambient air quality standards (NAAQS or “standards”) for certain pervasive air pollutants (referred to as “criteria pollutants”) and conducts periodic reviews of the NAAQS to determine whether they should be revised or whether new NAAQS should be established.

On July 18, 1997, the EPA revised the NAAQS for particulate matter to add new standards for fine particles, using PM2.5 (particles less than or equal to 2.5 micrometers in diameter) as the indicator for the pollutant. The EPA established primary and secondary ¹ annual and 24-hour standards for PM2.5 (62 FR 38652). The annual standard was set at 15.0 micrograms per cubic meter (μg/m³), based on a 3-year average of annual mean PM2.5 concentrations, and the 24-hour standard was set at 65 μg/m³, based on the 3-year average of the 98th percentile of 24-hour PM2.5 concentrations at each population-oriented monitor within an area. On October 17, 2006 (71 FR 61144), the EPA revised the level of the 24-hour PM2.5 NAAQS to 35 μg/m³, based on a 3-year average of the 98th percentile of 24-hour concentrations.

¹ For a given air pollutant, “primary” national ambient air quality standards are those determined by the EPA as requisite to protect the public health, and “secondary” standards are those determined by the EPA as requisite to protect the public welfare from any known or anticipated adverse effects associated with the presence of such air pollutant in the ambient air. See CAA section 109(b).

B. Designation of PM2.5 Nonattainment Areas

Effective December 14, 2009, the EPA established the initial air quality designations for most areas in the United States for the 2006 24-hour PM2.5 NAAQS (74 FR 58688, November 13, 2009). Among the various areas designated in 2009, the EPA designated the cross border Logan, Utah-Idaho nonattainment area as nonattainment for the 2006 24-hour PM2.5 NAAQS. The boundaries for these areas are described in 40 CFR 81.313.

C. Submittal Requirements for PM2.5 Nonattainment Areas

Section 172(c)(3) of the CAA requires a state with an area designated as nonattainment to submit for EPA approval a comprehensive, accurate, and current inventory of actual emissions for the nonattainment area. The EPA's requirements for an emissions inventory for the PM2.5 NAAQS are set forth in 40 CFR 51.1008, promulgated as part of the EPA's Clean Air Fine Particle Implementation Rule published April 25, 2007 (72 FR 20586) (hereafter referred to as the “PM2.5 implementation rule”). Although the U.S. Court of Appeals for the District of Columbia (D.C. Circuit) recently remanded the PM2.5 implementation rule and directed the EPA to re-promulgate it pursuant to subpart 4 of part D, title I of the CAA (see Natural Resources Defense Council v. EPA, 706 F.3d 428 (D.C. Cir. 2013)), the court's ruling in this case does not affect the EPA's action on the emissions inventory. Subpart 4 of part D, title I of the Act contains no specific provision governing emissions inventories for PM10 or PM2.5 nonattainment areas that supersedes the general emissions inventory requirement for all nonattainment areas in CAA section 172(c)(3). See “State Implementation Plans; General Preamble for the Implementation of Title I of the Clean Air Act Amendments of 1990,” (57 FR 13498, 13539, April 16, 1992). This proposed approval is limited to the emissions inventory for direct PM2.5 and PM2.5 precursors submitted by IDEQ for the Franklin County portion of the Logan, Utah-Idaho nonattainment area as required under section 172(c)(3) of the CAA.

II. Analysis of the State's Submittal

Section 172(c)(3) of the CAA requires states to submit a comprehensive, accurate, and current inventory of actual emissions for each nonattainment area. The EPA's requirements for an emissions inventory for the PM2.5 NAAQS are set forth in 40 CFR 51.1008. For the PM2.5 NAAQS, the pollutants to be inventoried are PM2.5 and PM2.5 precursors (i.e., nitrogen oxides (NOX), volatile organic compounds (VOCs), ammonia (NH3), and sulfur dioxide (SO2)).²

² Emissions Inventory Guidance for Implementation of Ozone and Particulate Matter National Ambient Air Quality Standards (NAAQS) and Regional Haze Regulations, EPA-454/R-05-001, August 2005, updated November 2005. http://www.epa.gov/ttn/chief/eidocs/eiguid/eiguidfinal_nov2005.pdf.

The Franklin County emissions inventory provides a 2008 inventory in tons per day (tpd) winter-time episode estimates for PM2.5 and PM2.5 precursors. Monitoring data for Franklin County, and the overall Logan nonattainment area, indicates that high PM2.5 concentrations occur during the winter months when meteorological conditions trap pollutants in the valley. Therefore, the Franklin County emissions estimates reflect the winter stagnation episodes when secondary PM2.5 formation dominates. The source categories include stationary sources, area sources, on-road mobile sources and off-road mobile sources. A summary of the Franklin County emissions inventory is provided in Table 1 below, and the detailed Franklin County emissions inventory is found in Appendices B and C of IDEQ's submittal.

Table 1—Franklin County 2008 Winter Emissions Inventory in Tons per Episode Day
Source category | PM2.5 | NOX | SO2 | VOC | NH3
Agriculture, crops, and livestock | 0.008 | 0 | 0 | 2.763 | 4.65
Gasoline, bulk, and stations | 0 | 0 | 0 | 0 | 0
Commercial cooking | 0 | 0 | 0 | 0 | 0
Construction dust | 0.014 | 0 | 0 | 0 | 0
Fuel combustion, industrial | 0.006 | 0.087 | 0.061 | 0.001 | 0.002
Fuel combustion, commercial/institutional | 0.004 | 0.07 | 0.018 | 0.001 | 0
Fuel combustion, residential non-wood | 0.001 | 0.049 | 0.014 | 0.002 | 0.008
Fuel combustion, residential wood | 0.1 | 0.009 | 0.002 | 0.138 | 0
Miscellaneous Commercial/Industrial Processes | 0.001 | 0.001 | 0 | 0 | 0.008
Solvent, commercial and consumer | 0 | 0 | 0 | 0.14 | 0
Solvent, commercial and industrial | 0 | 0 | 0 | 0.26 | 0
Waste disposal | 0 | 0 | 0 | 0.008 | 0
Mobile, emissions | 0.028 | 0.711 | 0.004 | 0.498 | 0.008
Mobile, road dust | 0.596 | 0 | 0 | 0 | 0
Nonroad mobile | 0.035 | 0.428 | 0.009 | 0.636 | 0
Point sources | 0 | 0 | 0 | 0 | 0
Totals | 0.793 | 1.355 | 0.108 | 4.447 | 4.676

The Franklin County emissions inventory includes emissions estimates from stationary sources, area sources, on-road mobile sources, and off-road mobile sources. The methodologies used to derive the 2008 inventory for PM2.5 are as follows:

• The stationary source emissions inventory is based on 2008 data of actual emissions reported by all permitted facilities. In Franklin County there are no industrial point sources of this type.

• Area-wide source emissions were calculated based on reported data for fuel usage, product sales, population, employment data, and other parameters covering a wide range of activities, in conjunction with the 2008 triennial National Emissions Inventory (NEI).

• IDEQ calculated residential wood stove base year and subsequent emission reductions using the EPA's Woodstove Calculator and tax receipt information from certified woodstove change out incentive programs.

• The on-road emissions inventory, which consists of mobile sources such as trucks, automobiles, buses, and motorcycles, was prepared by IDEQ using the EPA's Motor Vehicle Emissions Simulator (MOVES2010a).

• The non-road mobile source category includes aircraft, trains and boats, and off-road vehicles and equipment used for construction, farming, commercial, industrial, and recreational activities. Non-road emissions were estimated by IDEQ and Utah Department of Air Quality using the EPA's NONROAD2008a model as described in Appendix B of the SIP submittal.

• Paved road emissions were estimated by IDEQ, based on the EPA's January 2011 version of AP-42, Section 13.2.1.

The EPA has reviewed the results, procedures, and methodologies for the Franklin County emissions inventory. IDEQ used standard procedures to develop its emissions inventory and appropriately used seasonal emissions inventories to represent episodic meteorological conditions when PM2.5 levels are of the greatest concern. After reviewing the IDEQ submittal of the Franklin County emissions inventory and supporting documentation, the EPA is proposing to find that the emissions inventory meets the requirements of the CAA and the EPA's guidance.

III. Proposed Action

The EPA is proposing approval of the PM2.5 and PM2.5 precursor emissions inventory submitted by IDEQ, dated December 14, 2012, for the Franklin County, Idaho portion of the cross border Logan, Utah-Idaho nonattainment area. The EPA has determined that this action is consistent with sections 110 and 172(c)(3) of the CAA.

IV. Statutory and Executive Order Reviews

Under the CAA, the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely proposes to approve state law as meeting federal requirements and does not impose additional requirements beyond those imposed by State law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law.

List of Subjects in 40 CFR Part 52

Environmental protection, Air pollution control, Nitrogen dioxide, Particulate matter, Reporting and recordkeeping requirements, Sulfur oxides, Volatile organic compounds.

Authority: 42 U.S.C. 7401 et seq.

Dated: April 28, 2014.
Dennis J. McLerran,
Regional Adminstrator, Region 10.

[FR Doc. 2014-11092 Filed 5-13-14; 8:45 am]

BILLING CODE 6560-50-P